DEPARTMENT OF THE INTERIOR

Bureau of Land Management

(CO-935-4214-ET; COC-30130)

Notice of Proposed Extension of Withdrawal; Opportunity for Public Meeting; Colorado

AGENCY: Bureau of Land Management, Interior.

ACTION: Notice.

SUMMARY: The Bureau of Land Management proposes to extend Public Land Order No. 5736 for a 20-year period. This order withdrew public land from operation of the public land laws, including location and entry under the U. S. mining laws, to protect an administrative site. The land has been and remains open to mineral leasing. This notice also gives an opportunity to comment on the proposed action and to request a public meeting.

DATE: Comments and requests for a public meeting must be received by May 18, 2000.

ADDRESSES: Comments and meeting requests should be sent to the Colorado State Director, 2850 Youngfield Street, Lakewood, Colorado 80215-7093.

FOR FURTHER INFORMATION CONTACT: Doris E. Chelius at 303-239-3706.

SUPPLEMENTARY INFORMATION: On November 30, 1999, the Bureau of Land Management, Southwest Center, requested that Public Land Order No. 5736 be extended for an additional 20-year period. This withdrawal was made to protect constructed improvements at a Bureau of Land Management administrative site. This withdrawal will expire July 23, 2000.

The withdrawal comprises approximately 7.6 acres of public land in Montrose County. It is located in Section 4, T. 48 N., R. 9 W., New Mexico Principal Meridian and is described in Public Land Order 5736. A complete description of the lands can be provided by the Colorado State Office at the address shown above or the Southwest Center, 2465 S. Townsend Avenue, Montrose, Colorado, 970-240-5300.

For a period of 90 days from the date of publication of this notice, all persons who wish to submit comments, suggestions, or objections in connection with the proposed extension may present their views in writing to the Colorado State Director of the Bureau of Land Management.

Notice is hereby given that an opportunity for a public meeting is afforded in connection with this proposed extension. Any interested persons who desire a public meeting for the purpose of being heard on the proposed extension should submit a written request to the Colorado State Director within 90 days from the date of publication of this notice. If the authorized officer determines that a public meeting will be held, a notice of the time and place will be published in the Federal Register at least 30 days prior to the scheduled date of the meeting.

This extension will be processed in accordance with the regulations set forth in 43 CFR 2310.4.

Jenny L. Saunders,
Realty Officer.

[FR Doc. 00-3956 Filed 2-17-00; 8:45 am]

BILLING CODE 4310-JB-P